DEPARTMENT OF THE INTERIOR

Bureau of Reclamation

[RR02030000, 17XR0687NA, RX185279066000000]

Draft Environmental Impact Report/Environmental Impact Statement and Draft Feasibility Report for Sites Reservoir Project, Sites, California

AGENCY: Bureau of Reclamation, Interior.

ACTION: Notice of availability and notice of public meetings.

SUMMARY: The Bureau of Reclamation (Reclamation), as the National Environmental Policy Act (NEPA) Federal lead agency, and the Sites Project Authority, as the California Environmental Quality Act (CEQA) State lead agency, have made available for public review and comment the Sites Reservoir Project Draft Environmental Impact Report/Environmental Impact Statement (Draft EIR/EIS) and Draft Feasibility Report (Draft FR). The Draft EIR/EIS and Draft FR describe the environmental effects and evaluate the feasibility of the No-Action Alternative and four action alternatives. Two public meetings will be held to receive comments from individuals and organizations on the Draft EIR/EIS and Draft FR.

DATES: Submit written comments on the Draft EIR/EIS on or before November 13, 2017.

Two public meetings have been scheduled to receive oral or written comments regarding environmental effects:

• Tuesday, September 26, 2017, 6:00 p.m.-8:00 p.m., Maxwell, CA

• Thursday, September 28, 2017, 1:00 p.m.-3:00 p.m., Sacramento, CA

A 1-hour open house to view project information and interact with the project team will precede each public meeting.

ADDRESSES: Send written comments on the Draft EIR/EIS or Draft FR to DEIR/EIS Comments, Sites Project Authority, P.O. Box 517, Maxwell, CA 95955, or email to EIR-EIS-Comments@SitesProject.org.

The public meetings will be held at the following locations:

• Maxwell—Sites Project Authority, 122 Old Highway 99 West, Maxwell, CA 95955

• Sacramento—Convention Center, 1400 J Street, Room 306, Sacramento, CA 95814

Electronic CD copies of the Draft EIR/EIS may be requested from Sites Project Authority, at (530) 410-8250, or EIR-EIS-Comments@SitesProject.org. The Draft EIR/EIS is also accessible from the following Web site: https://www.usbr.gov/mp/nepa/nepa_projdetails.cfm?project_ID=29024.

Copies of the Draft EIR/EIS are available for public review at the following locations:

1. Bureau of Reclamation, Mid-Pacific Region, Regional Library, 2800 Cottage Way, Sacramento, CA 95825

2. Sacramento Public Library, 828 I Street, Sacramento, CA 95814

3. Sites Authority, 122 Old Highway 99 West, Maxwell, CA 95955

FOR FURTHER INFORMATION CONTACT: Please contact Mr. Michael Dietl, Bureau of Reclamation, at (916) 978-5070, or via email at mdietl@usbr.gov; or Mr. Rob Thomson, Sites Project Authority, at (530) 438-2309, or via email at EIR-EIS-Comments@SitesProject.org.

SUPPLEMENTARY INFORMATION: This Draft EIR/EIS describes the Sites Reservoir Project, potential alternatives to the Sites Reservoir Project, environmental setting, potential direct, indirect, and cumulative impacts that could result from implementation of each of the alternatives, and mitigation measures for potentially significant impacts, as applicable. Four alternative methods of constructing and operating the Sites Reservoir Project are evaluated in the Draft FR to meet all or the majority of the purpose, and need, and goals, and objectives of the Sites Reservoir Project. Other alternatives evaluated over the past several decades (some of which were the subject of prior CEQA and National Environmental Policy Act (NEPA) analyses and decision making) are summarized and discussed in Chapter 2 Alternatives Analysis of the Draft EIR/EIS.

The proposed Sites Reservoir Project facilities would primarily be located in Glenn and Colusa counties, approximately 10 miles west of the town of Maxwell, California. Proposed minor modifications to an existing diversion facility would also need to occur at the existing Red Bluff Pumping Plant in Tehama County, California. The Sites Reservoir Project would consist of a new offstream surface storage reservoir (Sites Reservoir) with two main dams, up to nine saddle dams, and up to three recreation areas. The Sites Reservoir would be filled via two existing Sacramento River diversions/canals (included in all alternatives) and a proposed new inlet/outlet structure and pipeline (included in the majority of alternatives). The pipeline would allow for diversion of excess Sacramento River flows for most alternatives, and discharge of water under all alternatives. Water conveyance between the reservoir and the canals and pipeline would be facilitated by two new regulating reservoirs. Pumping/generating plants would also be included as part of most alternatives. A new overhead power line would connect the pumping/generating plants and their associated electrical switchyards to an existing overhead power line in the Sites Reservoir Project area. New roads and a bridge across the proposed Sites Reservoir would be constructed to provide access to the proposed Sites Reservoir Project facilities and over the proposed reservoir, and some existing roads would be relocated or improved. The Sites Reservoir Project would require modifications to the T-C Canal and the Holthouse Reservoir. A more complete description of the Sites Reservoir Project can be found in Chapter 3 Description of the Sites Reservoir Project Alternatives in the Draft EIR/EIS.

The Sites Reservoir Project is the subject of a Notice of Preparation (NOP) issued on November 5, 2001, to prepare an EIR under CEQA, and a Notice of Intent (NOI) published on November 9, 2001 (66 FR 56708), to prepare an EIS under NEPA. The Sites Reservoir Project was formerly known as the North-of-Delta Offstream Storage project led by the California Department of Water Resources (DWR). The Sites Project Authority has assumed the role of the CEQA lead agency in lieu of DWR and will be responsible for constructing, operating, and maintaining the Sites Reservoir Project. Because of this change in lead agency, the Sites Project Authority issued a Supplemental NOP on February 2, 2017, for the Draft EIR for the Project.

Reclamation's involvement in the Sites Reservoir Project includes the following actions: (1) The development of a Federal feasibility report, and related EIS under NEPA, to support potential funding by the Federal Government, pursuant to the Calfed Bay-Delta Authorization Act (Pub. L. 108-361); (2) the potential approval of the use of the Tehama-Colusa Canal for water diversion and conveyance of water to Sites Reservoir; and (3) the coordinated operations of Central Valley Project (CVP) facilities and the Sites Reservoir Project. In addition, Reclamation's involvement in the Sites Reservoir Project also could include: (1) Potential Federal funding of the Project pursuant to the Water Infrastructure Improvements for the Nation Act (Pub. L. 114-322); (2) participation in the power lines to and from the Sites Reservoir; (3) involvement in and jurisdiction over the potential electrical power generation from the Sites Reservoir Project; and (4) potential new legislative authority to acquire shares of the water managed by the Sites Project Authority for federal conservation activities.

If special assistance is required at the public meetings, please contact Mr. Michael Dietl at (916) 978-5070; or via email at mdietl@usbr.gov. Please notify Mr. Dietl as far in advance as possible to enable Reclamation to secure the needed services. If a request cannot be honored, the requestor will be notified. A telephone device for the hearing impaired (TTY) is available at (800) 877-8339.

Before including your address, phone number, email address, or other personal identifying information in your comment, you should be aware that your entire comment—including your personal identifying information—may be made publicly available at any time. While you can ask us in your comment to withhold your personal identifying information from public review, we cannot guarantee that we will be able to do so.

Dated: August 14, 2017.
Grayford F. Payne,
Deputy Commissioner—Policy, Administration and Budget.

[FR Doc. 2017-17487 Filed 8-17-17; 8:45 am]

BILLING CODE 4332-90-P